DEPARTMENT OF COMMERCE

International Trade Administration

A-351-838, A-331-802, A-533-840, A-552-802, A-570-893, A-549-822

Certain Frozen Warmwater Shrimp from Brazil, Ecuador, India, the Socialist Republic of Vietnam, the People's Republic of China, and Thailand: Notice of Extension of Time Limits for the Preliminary Results of the First Administrative Reviews and New Shipper Reviews

AGENCY: Import Administration, International Trade Administration, Department of Commerce.

EFFECTIVE DATE: August 25, 2006.

FOR FURTHER INFORMATION CONTACT: Kate Johnson (Brazil) at (202) 482-4929, David Goldberger (Ecuador) at (202) 482-4136, Elizabeth Eastwood (India) at (202) 482-3874, Matthew Renkey (Vietnam) at (202) 482-2312, Scot Fullerton (PRC) at (202) 482-1386, and Irina Itkin (Thailand) at (202) 482-0656, AD/CVD Operations, Offices 2 and 9, Import Administration, International Trade Administration, U.S. Department of Commerce, 14th Street and Constitution Avenue, NW., Washington, DC 20230.

SUPPLEMENTARY INFORMATION:

Background

On March 23, 2006, the Department of Commerce (the Department) published a notice of initiation of a new shipper review of the antidumping duty order on certain frozen warmwater shrimp from the People's Republic of China (PRC), covering the period July 16, 2004, through January 31, 2006. See Certain Frozen Warmwater Shrimp from the People's Republic of China: Initiation of New Shipper Review, 71 FR 14681 (March 23, 2006). On March 24, 2006, the Department published a notice of initiation of a new shipper review of the antidumping duty order on certain frozen warmwater shrimp from the Socialist Republic of Vietnam (Vietnam), covering the period July 16, 2004, through January 31, 2006. See Certain Frozen Warmwater Shrimp from the Socialist Republic of Vietnam: Initiation of New Shipper Review, 71 FR 14834 (March 24, 2006).

On April 7, 2006, the Department published notices of initiation of administrative reviews of the antidumping duty orders on certain frozen warmwater shrimp from Vietnam and the PRC, covering the period July 16, 2004, through January 31, 2006, and on certain frozen warmwater shrimp from Brazil, Ecuador, India, and Thailand, covering the period August 4, 2004, through January 31, 2006. See Notice of Initiation of Administrative Reviews of the Antidumping Duty Orders on Frozen Warmwater Shrimp from the Socialist Republic of Vietnam and the People's Republic of China, 71 FR 17813 (April 7, 2006); Notice of Initiation of Administrative Reviews of the Antidumping Duty Orders on Certain Frozen Warmwater Shrimp from Brazil, Ecuador, India, and Thailand, 71 FR 17819 (April 7, 2006).

On May 5, 2006, the Department published a notice aligning the new shipper review and the administrative review for the PRC case. See Certain Frozen Warmwater Shrimp from the People's Republic of China: Notice of Postponement of Time Limits for New Shipper Antidumping Duty Reviews in Conjunction with Administrative Review, 71 FR 26454 (May 5, 2006). On May 31, 2006, the Department aligned the new shipper review and the administrative review for the Vietnam case. See the Department's May 31, 2006, letter, entitled, “Antidumping Duty New Shipper Review of Certain Frozen Warmwater Shrimp from the Socialist Republic of Vietnam (Vietnam): Alignment with Administrative Review.”

On June 16, 2006, after issuing two rounds of quantity and value questionnaires and receiving responses from certain companies, the Department selected three mandatory respondents in each of the administrative reviews for Vietnam and the PRC. See the memoranda from James C. Doyle to Stephen J. Claeys, dated June 16, 2006, entitled: “Antidumping Duty Administrative Review of Certain Frozen Warmwater Shrimp from the Socialist Republic of Vietnam: Selection of Respondents” and “Antidumping Duty Administrative Review of Certain Frozen Warmwater Shrimp from the People's Republic of China: Selection of Respondents.”

On July 11, 2006, due to the withdrawal of review requests for certain companies, including the three mandatory respondents, the Department selected three additional mandatory respondents in the administrative review for Vietnam. See the memorandum from Cindy Lai Robinson to James C. Doyle, dated July 11, 2006, entitled, “Antidumping Duty Administrative Review of Certain Frozen Warmwater Shrimp from the Socialist Republic of Vietnam: Selection of Additional Mandatory Respondents.”

Also, on July 11, 2006, after issuing two rounds of quantity and value questionnaires and receiving responses from certain companies, the Department selected two mandatory respondents in the administrative reviews for Brazil and Ecuador and three mandatory respondents in the administrative reviews for India and Thailand. See the memoranda from Irene Darzenta Tzafolias to Stephen J. Claeys, dated July 11, 2006, entitled: “Antidumping Duty Administrative Review of Certain Frozen Warmwater Shrimp from Brazil: Selection of Respondents,” “Antidumping Duty Administrative Review of Certain Frozen Warmwater Shrimp from Ecuador: Selection of Respondents,” “Antidumping Duty Administrative Review of Certain Frozen Warmwater Shrimp from India: Selection of Respondents,” and “Antidumping Duty Administrative Review of Certain Frozen Warmwater Shrimp from Thailand: Selection of Respondents.”

On July 20 and 21, 2006, the Department rescinded the administrative reviews for certain Brazilian, Ecuadorian, Indian, and Thai companies due to the withdrawal of review requests. See Certain Frozen Warmwater Shrimp from Brazil: Partial Rescission of the Antidumping Duty Administrative Review, 71 FR 41199 (July 20, 2006); Certain Frozen Warmwater Shrimp from Ecuador: Partial Rescission of the Antidumping Duty Administrative Review, 71 FR 41198 (July 20, 2006); Certain Frozen Warmwater Shrimp from India: Partial Rescission of the Antidumping Duty Administrative Review, 71 FR 41419 (July 21, 2006); Certain Frozen Warmwater Shrimp from Thailand: Partial Rescission of the Antidumping Duty Administrative Review, 71 FR 41200 (July 20, 2006).

On July 26, 2006, because one of the selected mandatory respondents notified the Department that it would not respond to the Department's questionnaire, the Department selected one additional mandatory respondent in the administrative review for the PRC. See the memorandum from Erin Begnal to James C. Doyle, dated July 26, 2006, entitled, “Antidumping Duty Administrative Review of Certain Frozen Warmwater Shrimp from the People's Republic of China: Selection of Additional Mandatory Respondent.”

On July 27, 2006, the Department rescinded the administrative review for certain Vietnamese companies due to the withdrawal of review requests. See Certain Frozen Warmwater Shrimp from the Socialist Republic of Vietnam: Partial Rescission of the First Administrative Review, 71 FR 42628 (July 27, 2006). On July 31, 2006, the Department rescinded the administrative review for certain PRC companies due to the withdrawal of review requests. See Certain Frozen Warmwater Shrimp from the People's Republic of China: Partial Rescission of the First Administrative Review, 71 FR 43107 (July 31, 2006).

Extension of Time Limit of Preliminary Results

Section 751(a)(3)(A) of the Tariff Act of 1930, as amended (the Act), requires the Department to make a preliminary determination in an administrative review within 245 days after the last day of the anniversary month of an order or finding for which a review is requested. Consistent with section 751(a)(3)(A) of the Act, the Department may extend the 245-day period to 365 days if it is not practicable to complete the review within a 245-day period. The deadline for the preliminary results of these reviews is currently October 31, 2006.

The Department determines that completion of the preliminary results of these administrative reviews within the statutory time period is not practicable. Due to the additional time needed for respondent selection, the Department was not able to issue its initial antidumping duty questionnaires to the selected companies until June 20, 2006 in the PRC review, July 11, 2006, in the Brazilian, Ecuadorian, Indian, and Thai reviews, and July 12, 2006 for the Vietnamese review. The Department thus requires additional time to conduct its analysis for each company in these administrative and new shipper reviews.

Therefore, given the additional time needed to conduct complete analyses for these administrative and new shipper reviews, in accordance with section 751(a)(3)(A) the Act, we are extending the time period for issuing the preliminary results of review by 120 days, until February 28, 2007. The final results continue to be due 120 days after the publication of the preliminary results. We are also extending the time limit for parties to submit new factual information, including surrogate value information to be considered for the preliminary results, until November 30, 2006, for the PRC and Vietnamese reviews. Parties should note that the due date for comments regarding surrogate country selection remains September 1, 2006, for Vietnam, and September 7, 2006, for the PRC.

This notice is published pursuant to section 751(a)(3)(A) of the Act and 19 CFR 351.213(h)(2).

Dated: August 21, 2006.
Stephen J. Claeys,
Deputy Assistant Secretary for Import Administration.

[FR Doc. E6-14170 Filed 8-24-06; 8:45 am]

BILLING CODE 3510-DS-S